DEPARTMENT OF AGRICULTURE

Forest Service

North Mt. Baker-Snoqualmie Resource Advisory Committee

AGENCY: Forest Service, USDA.

ACTION: Notice of meeting.

SUMMARY: The North Mt. Baker-Snoqualmie (MBS) Resource Advisory Committee (RAC) will meet in Sedro Woolley, Washington on August 27, 2012. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and rank 2013 Title II RAC proposals.

DATES: The meeting will be held on Monday, August 27, 2012 from 8 a.m. to 4 p.m.

ADDRESSES: The meeting will be held at the Mt. Baker Ranger District office located at 810 State Route 20, Sedro-Woolley, Washington, 98284. Written comments may be submitted as described under Supplementary Information. All comments, including names and addresses when provided, are placed in the record and are available for public inspection and copying. The public may inspect comments received at the Mt. Baker Ranger District (below). Please call ahead to (360) 854-2601 to facilitate entry into the building to view comments.

FOR FURTHER INFORMATION CONTACT: Jon Vanderheyden, District Ranger, Mt. Baker Ranger District, phone (360) 854-2601, email jvanderheyden@fs.fed.us.

Individuals who use telecommunication devices for the deaf (TDD) may call the Federal Information Relay Service (FIRS) at 1-800-877-8339 between 8 a.m. and 8 p.m., Eastern Standard Time, Monday through Friday. Written comments and requests for time for oral comments must be sent to Mt. Baker Ranger District, 810 State Route 20, Sedro-Woolley, Washington, 98284.

SUPPLEMENTARY INFORMATION: More information will be posted on the Mt. Baker-Snoqualmie National Forest Web site at: http://www.fs.fed.us/r6/mbs/projects/rac.shtml. Comments may be sent via email to jvanderheyden@fs.fed.us or via facsimile to (360) 856-1934. All comments, including names and addresses when provided, are placed in the record and are available for public inspection and copying. The public may inspect comments received at the Mt. Baker Ranger District office at 810 State Route 20, Sedro-Woolley, Washington, during regular office hours (Monday through Friday 8 a.m.-4:30 p.m.).

Dated: August 8, 2012.
Jennifer Eberlien,
Forest Supervisor.

[FR Doc. 2012-20025 Filed 8-14-12; 8:45 am]

BILLING CODE 3410-11-P